DEPARTMENT OF ENERGY

Federal Energy Regulatory Commission

[Docket No. RP02-390-001]

Eastern Shore Natural Gas Company; Notice of Compliance Filing

August 23, 2002.

Take notice that on August 16, 2002 Eastern Shore Natural Gas Company (Eastern Shore) tendered for filing as part of its FERC Gas Tariff, Second Revised Volume No. 1, Substitute Original Sheet No. 193A, proposed to be effective July 1, 2002.

Eastern Shore states that the substitute tariff sheet is being submitted to comply with Commission's Order issued on August 8, 2002 directing Eastern Shore to file a revised tariff sheet within 15 days of its order substituting “Releasing Buyers” for “Replacement Buyers” in the first sentence in Section 29(d)(2) of Eastern Shore's General Terms and Conditions in order to fully incorporate the language required by Order No. 587-N.

Eastern Shore states that copies of its filing has been mailed to its customers and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202) 502-8222 or for TTY, (202) 208-1659. The Commission strongly encourages electronic filings. See, 18 CFR 385.2001(a)(1)(iii) and the instructions on the Commission's web site under the “e-Filing” link.

Linwood A. Watson, Jr.,
Deputy Secretary.

[FR Doc. 02-22036 Filed 8-28-02; 8:45 am]

BILLING CODE 6717-01-P